DEPARTMENT OF THE INTERIOR

Fish and Wildlife Service

Meeting Announcements: North American Wetlands Conservation Council; Neotropical Migratory Bird Conservation Act Advisory Group

AGENCY: Fish and Wildlife Service, Interior.

ACTION: Notice of meetings.

SUMMARY: The North American Wetlands Conservation Council (Council) will meet to select North American Wetlands Conservation Act (NAWCA) grant proposals for recommendation to the Migratory Bird Conservation Commission (Commission). This meeting is open to the public. The Advisory Group for the Neotropical Migratory Bird Conservation Act (NMBCA) grants program (Advisory Group) will hold its third meeting. This meeting is open to the public, and interested persons may present oral or written statements.

DATES: Council: March 13, 2007, 1-3 p.m. Advisory Group: March 14, 2007, 11-4:30 p.m., March 15, 2007, 9-3 p.m.

ADDRESSES: Both meetings will be held at the Double Tree Hotel, 1515 Rhode Island Avenue, NW., Washington DC 20005. For further information, contact Mike Johnson, Acting Council Coordinator, at the U.S. Fish and Wildlife Service, 4401 N. Fairfax Drive, Mail Stop: MBSP 4501-4075, Arlington, VA 22203.

FOR FURTHER INFORMATION CONTACT: Mike Johnson, Acting Council Coordinator, (703) 358-1784 or dbhc@fws.gov.

SUPPLEMENTARY INFORMATION: Council: In accordance with NAWCA (Pub. L. 101-233, 103 Stat. 1968, December 13, 1989, as amended), the State-private-Federal Council meets to consider wetland acquisition, restoration, enhancement, and management projects for recommendation to, and final funding approval by, the Commission. Proposal due dates, application instructions, and eligibility requirements are available on the NAWCA Web site at http://birdhabitat.fws.gov. Proposals require a minimum of 50 percent non-Federal matching funds. The Council will consider Canadian and U.S. Small Grant grant proposals at the meeting. The tentative date for the Commission meeting is June 13, 2007.

Advisory Group: The Advisory Group, named by the Secretary of the Interior under NMBCA (Pub. L. 106-247, 114 Stat. 593, July 20, 2000), will hold its third meeting. The Group advises the Director, Fish and Wildlife Service, on the strategic direction and management of the program. Proposal due dates, application instructions, and eligibility requirements are available on the NMBCA Web site at http://birdhabitat.fws.gov.

Dated: February 5, 2007.
Paul Schmidt,
Assistant Director—Migratory Birds.

[FR Doc. E7-3192 Filed 2-23-07; 8:45 am]

BILLING CODE 4310-55-P